DEPARTMENT OF ENERGY

Federal Energy Regulatory Commission

[Docket No. ER03-563-029, et al.]

Devon Power LLC, et al.; Electric Rate and Corporate Filings

February 10, 2004.

The following filings have been made with the Commission. The filings are listed in ascending order within each docket classification.

1. Devon Power LLC, Middletown Power LLC, Montville Power LLC, Norwalk Power LLC, and NRG Power Marketing Inc.

[Docket No. ER03-563-029]

Take notice that on February 6, 2004, Devon Power LLC, Middletown Power LLC, Montville Power LLC, and Norwalk Power LLC (collectively Applicants) tendered for filing Updated Schedules 1 and 2 to the Cost-of-Service Agreements entered into between Applicants and ISO New England Inc. (ISO-NE).

Applicants state that they have provided copies of this filing to ISO-NE and served each person designated on the official service list compiled by the Secretary in this proceeding.

Comment Date: February 27, 2004.

2. Aquila, Inc.

[Docket No. ER03-1079-002]

Take notice that on February 6, 2004, Aquila, Inc. filed a three-year updated market analysis.

Comment Date: February 27, 2004.

3. Southern California Edison Company

[Docket No. ER04-285-001]

Take notice that on February 6, 2004, Southern California Edison Company (SCE) tendered for filing revised rate sheets (revised Sheets) to the Interconnection Facilities Agreement between the City of Industry, California (Industry) and SCE, Service Agreement No. 49 under SCE's Wholesale Distribution Access Tariff, FERC Electric Tariff First Revised Volume No. 5, to reflect the proper tariff volume and proper service agreement designations as directed in the February 3, 2004, Letter Order in Docket No. ER04-285-000.

SCE states that copies of this filing were served upon the Public Utilities Commission of the State of California and Industry.

Comment Date: February 27, 2004.

4. Southeast Chicago Energy Project, LLC

[Docket No. ER04-333-001]

Take notice that on February 6, 2004, Southeast Chicago Energy Project, LLC (Southeast Chicago) tendered for filing an amendment to its pending filing in the captioned docket to amend Schedules A and D to its Monthly Cost of Service Billing Formula in its Rate Schedule No. 1.

Comment Date: February 17, 2004.

5. Southern California Edison Company

[Docket No. ER04-384-001]

Take notice, that on February 6, 2004, Southern California Edison Company (SCE) tendered for filing a revised rate sheet (Revised Sheet) for the Service Agreement for Wholesale Distribution Service between SCE and the City of Moreno Valley, California (Moreno Valley) for the Cactus Avenue Wholesale Distribution Load filed in Docket No. ER04-384-000 on January 9, 2004. SCE states that the Revised Sheet reflects a revised date for the commencement of wholesale Distribution Service.

SCE states that copies of this filing were served upon the Public Utilities Commission of the State of California, and Moreno Valley.

Comment Date: February 27, 2004.

6. Public Service Electric and Gas Company and PSEG Energy Resources & Trade LLC

[Docket No. ER04-530-000]

Take notice that on February 5, 2004, Public Service Electric and Gas Company (PSE&G) and PSEG Energy Resources & Trade LLC (PSEG ER&T), filed with the Federal Energy Regulatory Commission a request for waiver of the Commission's rules and their market-based rate tariffs and codes of affiliate conduct to the extent necessary to permit PSEG ER&T to participate in the auction for Basic Generation Service (BGS), as approved by the New Jersey Board of Public Utilities, and provide BGS within the service territory of its affiliate PSE&G.

Comment Date: February 26, 2004.

7. Virginia Electric and Power Company

[Docket No. ER04-531-000]

Take notice that on February 6, 2004, Virginia Electric and Power Company (Dominion Virginia Power or the Company) tendered for filing Unexecuted Service Agreements for Firm Point-to-Point Transmission Service and Non-Firm Point-to-Point Transmission Service between Virginia Electric and Power Company and Ingenco Wholesale Power LLC, designated as Service Agreement Nos. 379 and 380 under the Company's FERC Electric Tariff, Second Revised Volume No. 5. Dominion Virginia Power requests an effective date of January 7, 2004.

Dominion Virginia Power states that copies of the filing were served upon Ingenco Wholesale Power LLC, the Virginia State Corporation Commission, and the North Carolina Utilities Commission.

Comment Date: February 27, 2004.

8. AmerGen Vermont, LLC

[Docket No. ER04-532-000]

Take notice that on February 6, 2004, AmerGen Energy Company, LLC, on behalf of AmerGen Vermont, LLC, (AmerGen Vermont), tendered for filing a Notice of Cancellation, of FERC Electric Tariff Original Volume No. 1, effective March 31, 2003, the date on which AmerGen Vermont was dissolved as a limited liability company organized under the laws of the State of Vermont.

Comment Date: February 27, 2004.

9. PJM Interconnection, L.L.C.

[Docket No. ER04-539-000]

Take notice that on February 5, 2004, PJM Interconnection, L.L.C. (PJM), submitted for filing revisions to the PJM Open Access Transmission Tariff and the Amended and Restated Operating Agreement of PJM Interconnection, L.L.C. to implement market mitigation procedures for the Northern Illinois Control Area upon the integration of Commonwealth Edison Company, including Commonwealth Edison Company of Indiana (collectively ComEd) into the PJM footprint.

PJM requests an effective date of May 1, 2004, for the amendments, which coincides with the full integration of ComEd into PJM. PJM states that copies of this filing have been served on all PJM members, ComEd, and each State electric utility regulatory commission in the PJM region.

Comment Date: February 26, 2004.

10. Ormesa LLC

[Docket No. QF86-681-005]

Take notice that on February 3, 2004, Ormesa LLC tendered for filing an application for recertification of its geothermal small power production facility located at East Mesa KGRA, in Imperial County, California pursuant to 18 CFR 292.207(b) of the Commission's regulations.

Comment Date: March 4, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-334 Filed 2-19-04; 8:45 am]

BILLING CODE 6717-01-P